DEPARTMENT OF TRANSPORTATION

Federal Motor Carrier Safety Administration

[Docket No. FMCSA-2011-0079]

Qualification of Drivers; Exemption Applications; Vision

AGENCY: Federal Motor Carrier Safety Administration (FMCSA), DOT.

ACTION: Notice of applications for exemptions; request for comments.

SUMMARY: FMCSA announces receipt of applications from 14 individuals for exemption from the vision requirement in the Federal Motor Carrier Safety Regulations. If granted, the exemptions would enable these individuals to qualify as drivers of commercial motor vehicles (CMVs) in interstate commerce without meeting the Federal vision standard.

DATES: Comments must be received on or before June 6, 2011.

ADDRESSES: You may submit comments bearing the Federal Docket Management System (FDMS) Docket No. FMCSA-2011-0079 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 14 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Jan M. Bernath

Mr. Bernath, age 53, has no light perception in his right eye due to brain and ocular trauma that occurred in 1996. The best corrected visual acuity in his right eye is no light perception and in his left eye, 20/20. Following an examination in 2011, his optometrist noted, “My medical opinion is that this patient has sufficient vision function to perform the driving tasks required to operate a commerical vehicle.” Mr. Bernath reported that he has driven straight trucks for 30 years, accumulating 180,000 miles and tractor-trailer combinations for 25 years, accumulating 125,000 miles. He holds a Class A Commercial Driver's License (CDL) from Ohio. His driving record for the last 3 years shows no crashes and no convictions for moving violations in a CMV.

Jason M. Birrenkott

Mr. Birrenkot, 38, has had ectopia lentis with cataract in his left eye since birth. The best corrected visual acuity in his right eye is 20/20 and in his left eye, count-finger vision. Following an examination in 2010, his optometrist noted, “I certify, in my medical opinion, that Mr. Birrenkott has sufficient vision to perform the driving tasks required to operate a commercial vehicle.” Mr. Birrenkott reported that he has driven straight trucks for 9 years, accumulating 162,000 miles. He holds a Class D operator's license from North Dakota. His driving record for the last 3 years shows no crashes and no convictions for moving violations in a CMV.

John E. Edler, lll

Mr. Edler, 50, has had a retinal scar in his right eye since 1979. The best corrected visual acuity in his right eye is 20/400 and in his left eye, 20/20. Following an examination in 2011, his optometrist noted, “It is my understanding that Mr. Edler has maintained a safe driving record for many years and has always driven with the visual disability of the right eye. Since it has always been present, he has functioned well, and his peripheral visual acuity is excellent. There is no reason to believe that he cannot continue to operate commercial vehicles.” Mr. Edler reported that he has driven straight trucks for 31 years, accumulating 77,500 miles and tractor-trailer combinations for 29 years, accumulating 232,000 miles. He holds a Class A CDL from Delaware. His driving record for the last 3 years shows no crashes and no convictions for moving violations in a CMV.

Saul E. Fierro

Mr. Fierro, 37, has a macular scar in his left eye due to a traumatic injury sustained as a child. The best corrected visual acuity in his right eye is 20/20 and in his left eye, 20/200. Following an examination in 2010, his optometrist noted, “In my opinion, I believe that Saul has sufficient vision to perform the driving tasks required to operate a commercial vehicle.” Mr. Fierro reported that he has driven straight trucks for 4 years, accumulating 57,600 miles. He holds a Class D operator's license from Arizona. His driving record for the last 3 years shows no crashes and no convictions for moving violations in a CMV.

Mark T. Gileau

Mr. Gileau, 44, has had amblyopia in his right eye since childhood. The best corrected visual acuity in his right eye is count-finger vision and in his left eye, 20/15. Following an examination in 2010, his ophthalmologist noted, “Mr. Gileau has been driving commercial vehicles for a number of years with his present level of vision without incident and because of this I feel he has sufficient vision to perform driving tasks required to operate a commercial vehicle.” Mr. Gileau reported that he has driven tractor-trailer combinations for 20 years, accumulating 240,000 miles. He holds a Class A CDL from Connecticut. His driving record for the last 3 years shows no crashes and no convictions for moving violations in a CMV.

Peter D. Gouge

Mr. Gouge, 60, has a macular scar in his left eye due to a traumatic injury that occurred in 1976. The best corrected visual acuity in his right eye is 20/20 and in his left eye, count-finger vision. Following an examination in 2010, his optometrist noted, “I, Karen Anderson certify in my medical opinion is that Mr. Peter Gouge has sufficient vision function to perform the driving tasks required to operate a commercial vehicle.” Mr. Gouge reported that he has driven straight trucks for 27 years, accumulating 21,600 miles and tractor-trailer combinations for 27 years, accumulating 1.2 million miles. He holds a Class A CDL from Iowa. His driving record for the last 3 years shows no crashes but one conviction for speeding in a CMV. He exceeded the speed limit by 10 Miles Per Hour (MPH).

Thomas M. Harris

Mr. Harris, 59, has had amblyopia in his left eye since birth. The best corrected visual acuity in his right eye is 20/20 and in his left eye, 20/100. Following an examination in 2010, his optometrist noted, “Tom unquestionably has the acuity, field, and perceptual skills to perform commercial driving tasks as he has been conducting for many years.” Mr. Harris reported that he has driven straight trucks for 13 years, accumulating 507,000 miles. He holds a Class B CDL from Michigan. His driving record for the last 3 years shows no crashes and no convictions for moving violations in a CMV.

Paul M. Hinkson

Mr. Hinkson, 43, has complete loss of vision in his right eye since childhood. The best corrected visual acuity in his left eye is 20/20. Following an examination in 2010, his optometrist noted, “Mr. Hinkson is fully capable of performing all vision tasks required to operate a commercial motor vehicle in interstate commerce.” Mr. Hinkson reported that he has driven straight trucks for 16 years, accumulating 320,000 miles. He holds a Class A CDL from Tennessee. His driving record for the last 3 years shows no crashes and no convictions for moving violations in a CMV.

Lyle H. Lightner

Mr. Lightner, 60, has loss of vision in his left eye due to a traumatic injury sustained at age 3. The best corrected visual acuity in his right eye is 20/20 and in his left eye, no light perception. Following an examination in 2011, his optometrist noted, “In summary, Mr. Lightner's visual condition is stable and is sufficient to perform required commerical driving tasks.” Mr. Lightner reported that he has driven straight trucks for 40 years, accumulating 1.6 million miles. He holds a Class C Chauffeur's license from Michigan. His driving record for the last 3 years shows no crashes and no convictions for moving violations in a CMV.

Ellie L. Murphree

Mr. Murphree, 69, has had central retinal atrophy in his right eye since 2007. The best corrected visual acuity in his right eye is 20/400 and in his left eye, 20/20. Following an examination in 2010, his optometrist noted, “Therefore, in my medical opinion, Mr. Murphree has sufficient vision to perform driving tasks required to operate a commercial vehicle as he has done successfully since at least 2007 and prior.” Mr. Murphree reported that he has driven tractor-trailer combinations for 50 years, accumulating 5.3 millon miles. He holds a Class D operator's license from Alabama. His driving record for the last 3 years shows no crashes and no convictions for moving violations in a CMV.

Claude S. Overstreet

Mr. Overstreet, 58, has had amblyopia in his left eye since childhood. The best corrected visual acuity in his right eye is 20/20 and in his left eye, 20/80. Following an examination in 2010, his optometrist noted, “In my medical opinion, Claude Overstreet has sufficient vision to perform the driving tasks required to operate a commercial vehicle.” Mr. Overstreet reported that he has driven straight trucks for 26 years, accumulating 910,000 miles. He holds a Class D operator's license from Alabama. His driving record for the last 3 years shows no crashes and no convictions for moving violations in a CMV.

James F. Partin

Mr. Partin, 67, has no light perception in his left eye due to a traumatic injury since childhood. The best corrected visual acuity in his right eye is 20/20 and in his left eye, no light perception. Following an examination in 2010, his optometrist noted, “Mr. Partin has sufficient vision in his right eye to operate a commercial vehicle with no restrictions.” Mr. Partin reported that he has driven straight trucks for 46 years, accumulating 920,000 miles. He holds a Class A CDL from Florida. His driving record for the last 3 years shows no crashes and no convictions for moving violations in a CMV.

Kevin W. Van Arsdol

Mr. Van Arsdol, 48, has congenital glaucoma in his right eye. The best corrected visual acuity in his left eye, 20/20. Following an examination in 2011, his optometrist noted, “Since this condition has been present and unchanged since birth, and considering Kevin has safely mantained a commercial license for more than 20 years, I believe he has sufficient vision to perform the driving tasks required to operate a commercial vehicle”. Mr. Van Arsdol reported that he has driven straight trucks for 1 year accumulating 140,000 miles and tractor-trailer combinations for 26 years accumulating 2 million miles. He holds a Class A CDL from Colorado. His driving record for the last 3 years shows no crashes but three convictions for speeding in a CMV. In the first incident, he exceeded the speed limit by 9 MPH, in the second incident, he exceeded the speed limit by 12 MPH and in the third incident, he exceeded the speed limit by 5 MPH.

Harlon C. VanBlaricom

Mr. VanBlaricom, 51, has only light perception out of his left eye due to a traumatic injury sustained at age 5. The best corrected visual acuity in his right eye is 20/20 and in his left eye, light perception only. Following an examination in 2010, his optometrist noted, “It is my opinion that Harlon has sufficient vision needed to operate a commercial vehicle.” Mr. VanBlaricom reported that he has driven tractor-trailer combinations for 30 years, accumulating 1.5 million miles. He holds a Class A CDL from Minnesota. His driving record for the last 3 years shows no crashes and no convictions for moving violations in a CMV.

Request for Comments

In accordance with 49 U.S.C. 31136(e) and 31315, FMCSA requests public comment from all interested persons on the exemption petitions described in this notice. The Agency will consider all comments received before the close of business June 6, 2011. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: April 22, 2011.
Larry W. Minor,
Associate Administrator for Policy.

[FR Doc. 2011-11016 Filed 5-4-11; 8:45 am]

BILLING CODE 4910-EX-P